FEDERAL COMMUNICATIONS COMMISSION

[CC Docket No. 98-67; DA 01-2247]

Postponement of FCC's Public Forum and Technology Expo on Telecommunications Relay Services

AGENCY: Federal Communications Commission.

ACTION: Notice; postponement of meeting.

SUMMARY: By this notice, the Public Forum and Technology Expo on Telecommunications Relay Service (TRS), that had been scheduled for October 10, 2001, as announced by Public Notice, DA 01-1969, on August 20, 2001 has been postponed.

DATES: The Public Forum and Technology Expo on TRS will be rescheduled for sometime in the Spring. A public notice announcing the new date will be released in the future.

FOR FURTHER INFORMATION CONTACT: For more information, please contact Suzanne Perrin at (202) 418-2874 (voice), (202) 418-1085 (TTY), or sperrin@fcc.gov (e-mail) or Arlene Alexander at (202) 418-0581 (voice), (202) 418-0183 (TTY), or aalexand@fcc.gov (email).

SUPPLEMENTARY INFORMATION: We still encourage all interested individuals to submit written ex parte presentations identifying proposed national outreach guidelines and procedures, as requested in the Public Notice DA 01-1969, released August 20, 2001. Ex parte presentations will aid us in our decision-making with regard to identifying the best means of achieving nationwide outreach on TRS. Interested parties must file ex parte presentations pursuant to § 1.1206 of the Commission's rules, 47 CFR 1.1206. An original and four (4) copies should be filed with the FCC's Office of the Secretary, 445 12th Street, SW., TW-A325, Washington DC 20554 and should reference CC Docket No. 98-67. One (1) copy of those filings should be sent to our duplicating contractor, Qualex International, Portals II, 445 12th Street, SW., Room CY-B402, Washington, DC 20554, telephone 202-863-2893, facsimile 202-863-2898, or via e-mail qualexint@aol.com. Additionally, two (2) copies should be forwarded to Greg Hlibok, Consumer Information Bureau, FCC, 445 12th Street, SW., Room 6-A236, Washington, DC 20554. All filings concerning any of the matters referenced in this Public Notice should refer to CC Docket 98-67. You may also file ex parte presentations using the Commission's Electronic Comment Filing System (ECFS). Ex parte presentations filed through the ECFS can be sent as an electronic file via the Internet to <http://www.fcc.gov/e-file/ecfs.html>. If using this method, please reference CC Docket No. 98-67 in the Proceeding Block. Generally, only one copy of an electronic submission must be filed. In completing the transmittal screen, commenters should include their full name, Postal Service mailing address, and the applicable docket. Parties may also submit an electronic ex parte presentation by Internet e-mail. To get filing instructions for e-mail ex parte presentations, commenters should send e-mail to ecfs@fcc.gov, including “get form <your e-mail address>” in the body of the message. A sample form and directions will be sent in reply. Copies of any subsequently filed documents in this matter will be available for public inspection and copying during regular business hours at the FCC Reference Information Center, Portals II, 445 12th Street, SW., Room CY-A257, Washington, DC 20554.

Documents may also be purchased from the Commission's duplicating contractor, Qualex International.

Consumer Information Bureau.
Pamela Gregory,
Chief, Disabilities Rights Office.

[FR Doc. 01-25480 Filed 10-10-01; 8:45 am]

BILLING CODE 6712-01-P